DEPARTMENT OF HEALTH AND HUMAN SERVICES

National Institutes of Health

National Institute of General Medical Sciences; Amended Notice of Meeting

Notice is hereby given of a change in the meeting of the National Advisory General Medical Sciences Council, September 13, 2001, 8:30 a.m. to September 14, 2001, 5 p.m., Natcher Building, 45 Center Drive, Conference Rooms E1/E2, Bethesda, MD, 20892 which was published in the Federal Register on April 19, 2001, 66 FR 20154-20155.

The times for the Council agenda were changed. The new agenda follows: closed—September 13, 2001, 8:30 a.m. to 10:30 a.m.; open—September 13, 2001, 10:30 a.m. to 5 p.m.; closed—September 14, 2001, 8:30 a.m. to adjournment. The meeting is partially Closed to the public.

Dated: July 10, 2001.
LaVerne Y. Stringfield,
Director, Office of Federal Advisory Committee Policy.

[FR Doc. 01-17742 Filed 7-13-01; 8:45 am]

BILLING CODE 4140-01-M